DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1129.

Comments are invited on: (a) The proposed collection of information for the proper performance of the functions of the Agency; (b) the accuracy of the agency's estimate of the burden of the proposed collection of information; (c) ways to enhance the quality, utility, and clarity of the information to be collected; and (d) ways to minimize the burden of the collection of information on respondents, including through the use of automated collection techniques or other forms of information technology.

Proposed Project Title: Healthy Weight Learning Collaborative Evaluation (OMB No. 0915-xxxx)—[New]

Background: Supported by the Prevention and Public Health Fund created by Section 4002 of the Affordable Care Act, HRSA awarded $5 million to the National Initiative for Children's Healthcare Quality (NICHQ) to create the Collaborate for Healthy Weight, a national initiative to bring together primary care providers, public health professionals, and leaders of community-based organizations to use quality improvement methods to address the obesity epidemic in communities across the country. A key part of that initiative was creation of the Healthy Weight Learning Collaborative (HWLC), a quality improvement project working with 50 community teams to identify, test, and evaluate a national “change package” of evidence-based program and policy interventions to address childhood obesity. The HWLC is being implemented in two consecutive phases, each with a series of learning sessions and action periods. The first phase (July 2011 to July 2012) includes 10 community teams; the second phase (March 2012 to March 2013) includes 40 additional teams.

Purpose: The purpose of this evaluation is to assess the quality and effectiveness of the HWLC. This 1-year information collection will supplement the analysis of existing quantitative HWLC administrative and team data by collecting primary data using individual and group interviews with two groups of stakeholders: (a) NICHQ project leadership, staff, and faculty; and (b) community team members at 11 selected sites (four Phase One teams and seven Phase Two teams). Data from these interviews will be used to evaluate the quality and effectiveness of the HWLC. NICHQ leadership, staff, and faculty interview topics include: The design and implementation of the HWLC project; the content and quality of the HWLC learning sessions, coaching assistance, and other action period activities; the community teams' experiences implementing the HWLC change package and quality improvement indicators; and stakeholders' perceptions of the quality and effectiveness of the HWLC in accelerating community efforts to address childhood obesity.

Community team interviews will be conducted with the team coordinator, the quality improvement data manager, and other team members, including primary care providers, public health officials, school administrators, and other community volunteers. Separate interview protocols will be developed for the Phase 1 and Phase 2 community teams. Phase 1 protocols will examine community team strategies, activities, and approaches that have been sustained and spread after the end of Phase 1. Phase 2 protocols will examine (1) Team goals, objectives, and program elements; (2) team implementation of the HWC change package; (3) team engagement in HWLC activities; and (4) team linkages and organizational and policy changes resulting from the team's participation in the HWLC.

Estimate of response burden is as follows:

Data collection | Number of respondents | Responses per respondent | Total responses | Hours per response | Total burden hours
NICHQ Leadership Interview | 4 | 1 | 4 | 1.0 | 4.0
NICHQ Staff Interview | 5 | 1 | 5 | 1.0 | 5.0
NICHQ Faculty Group Interview | * 6 | 1 | 6 | 1.0 | 6.0
Phase 1 Community Team Group Interview | ** 24 | 1 | 24 | 1.5 | 36.0
Phase 1 Community Team Coordinator Interview | 4 | 1 | 4 | 1.5 | 6.0
Phase 1 Community Team Data Manager Interview | 4 | 1 | 4 | 0.5 | 2.0
Phase 2 Community Team Group Interview | *** 42 | 1 | 42 | 1.5 | 63.0
Phase 2 Community Team Leader Interview | 7 | 1 | 7 | 1.5 | 10.5
Phase 2 Community Team Data Manager Interview | 7 | 1 | 7 | 0.5 | 3.5
Total | 103 |  | 103 |  | 136.0
* One group interview: 6 people per group.
** Four group interviews: 6 people per group.
*** Seven group interviews: 6 people per group.

Email comments to paperwork@hrsa.gov or mail to the HRSA Reports Clearance Officer, Room 10-33, Parklawn Building, 5600 Fishers Lane, Rockville, MD 20857. Written comments should be received within 60 days of this notice.

Dated: July 20, 2012.
Jennifer Riggle,
Deputy Director, Office of Management.

[FR Doc. 2012-18312 Filed 7-26-12; 8:45 am]

BILLING CODE 4165-15-P